Title 3—

The President

Proclamation 9612 of May 19, 2017

Emergency Medical Services Week, 2017

By the President of the United States of America

A Proclamation

During Emergency Medical Services (EMS) Week, we express our gratitude for the hundreds of thousands of skilled personnel who help save lives in communities across the United States each year. Through the hard work and dedication of these career and volunteer first responders, Americans receive the finest emergency medical treatment in their most vulnerable moments. We also honor those EMS providers who have made the ultimate sacrifice and given their lives in the line of duty.

Day or night, in every city, suburb, rural community, or wilderness area, our Nation relies upon EMS providers to respond to every kind of emergency situation to save lives and reduce suffering. In January, when more than 70 tornadoes touched down in Georgia and Mississippi, injuring many, EMS responders were there to help. In March, when wildfires threatened Kansas, Colorado, Oklahoma, and Texas, taking lives and forcing thousands from their homes, our EMS personnel were there providing urgent medical care and patient transportation. Last month, when flooding and tornadoes ravaged Missouri, Arkansas, and Texas, EMS personnel once more came to their neighbors' aid. Whether they are assisting during natural disasters or providing lifesaving care after car accidents, heart attacks, sports injuries, or violent crime, EMS personnel respond to tens of millions of requests for help each year in our country. We rest easier knowing that they stand ready to answer the call.

Over the past 50 years, our Nation's EMS system has evolved with ever-developing medical, transportation, and communications technologies to meet the changing needs of our communities. The EMS Agenda 2050 project—a joint effort by the National Highway Traffic Safety Administration, the Department of Health and Human Services, the Department of Homeland Security, and the EMS community—will help develop a vision for meeting our communities' future emergency medical services needs and improve the health of all Americans. We commend these efforts to develop innovative new treatments, advance and adapt medical skills, establish stronger professional standards, and promote public education and health. This week, we thank our EMS professionals for their sustained commitment to excellence and dedication to service, and share our hopes for a bright future that will make us all safer and healthier.

NOW, THEREFORE, I, Donald J. Trump, President of the United States of America, by virtue of the authority vested in me by the Constitution and the laws of the United States, do hereby proclaim May 21 through May 27, 2017, as Emergency Medical Services Week. I encourage all Americans to observe this occasion by showing their support for local EMS professionals through appropriate programs, ceremonies, and activities.

IN WITNESS WHEREOF, I have hereunto set my hand this nineteenth day of May, in the year of our Lord two thousand seventeen, and of the Independence of the United States of America the two hundred and forty-first.

[FR Doc. 2017-10845

Filed 5-23-17; 11:15 am]

Billing code 3295-F7-P